DEPARTMENT OF HEALTH AND HUMAN SERVICES

National Institutes of Health

Center for Scientific Review; Amended Notice of Meeting

Notice is hereby given of a change in the meeting of the Center for Scientific Review Advisory Council, March 27, 2023, 10AM to March 27, 2023, 3: p.m., National Institutes of Health, Rockledge II, 6701 Rockledge Drive, Conference Room 160A, Bethesda, MD, 20892. which was published in the Federal Register on March 07, 2023, V88#44, FR DOC #2023-04622.

This meeting is being amended to change the meeting location to 6700B Rockledge Drive, Conference Rooms C/B/A, Bethesda, MD 20892. The date and time remain the same. The meeting is open to the public.

Individuals who plan to attend and need special assistance, such as sign language interpretation or other reasonable accommodations, should register at: https://public.csr.nih.gov/AboutCSR/Organization/CSRAdvisoryCouncil/Registration

In the interest of security, NIH has stringent procedures for entrance into NIH federal property. Visitors will be asked to show one form of identification (for example, a government-issued photo ID, driver's license, or passport) and to state the purpose of their visit.

Dated: March 15, 2023.
Tyeshia M. Roberson-Curtis,
Program Analyst, Office of Federal Advisory Committee Policy.

[FR Doc. 2023-05665 Filed 3-20-23; 8:45 am]

BILLING CODE 4140-01-P